FEDERAL COMMUNICATIONS COMMISSION

47 CFR Part 74

[MB Docket No. 18-119, FCC 19-40]

FM Translator Interference; Correction

AGENCY: Federal Communications Commission.

ACTION: Final rule; announcement of effective date; correction.

SUMMARY: The Federal Communications Commission (Commission) is correcting the effective date of rule amendments that appeared in the Federal Register on June 14, 2019. The document incorrectly stated the effective date for three of the amended rules as being 30 days from the date of publication in the Federal Register. The Commission ordered these amended rules to be effective 60 days from the date of publication in the Federal Register.

DATES: The effective date for the final rule published June 14, 2019, at 84 FR 27734, is corrected to August 13, 2019, except for the amendments to §§ 74.1203(a)(3) and 74.1204(f), which will become effective after the Commission publishes a document in the Federal Register announcing such approval and the relevant effective date.

FOR FURTHER INFORMATION CONTACT: Christine Goepp, Attorney Advisor, Media Bureau, Audio Division, (202) 418-7834; James Bradshaw, Senior Deputy Chief, Media Bureau, Audio Division, (202) 418-2739; Lisa Scanlan, Deputy Division Chief, Media Bureau, Audio Division, (202) 418-2704. Direct press inquiries to Janice Wise at (202) 418-8165. For additional information concerning the PRA information collection requirements contained in this document, contact Cathy Williams, Federal Communications Commission, at (202) 418-2918, or via email Cathy.Williams@fcc.gov.

SUPPLEMENTARY INFORMATION: The Federal Communications Commission (Commission) is correcting the effective date of rule amendments that appeared in the Federal Register on June 14, 2019. The document incorrectly stated the effective date for three of the amended rules, 47 CFR 74.1201(k), 74.1203(b), and 74.1233(a)(1), as being 30 days from the date of publication in the Federal Register. The Commission ordered these amended rules to be effective 60 days from the date of publication in the Federal Register. Amendment of Part 74 of the Commission's Rules Regarding FM Translator Interference, Report and Order, FCC 19-40, at para. 56 (rel. May 9, 2019).

The amendments to §§ 74.1203(a)(3) and 74.1204(f), which contain new or modified information collection requirements that require approval by the Office of Management and Budget (OMB) under the Paperwork Reduction Act (PRA), will become effective after the Commission publishes a document in the Federal Register announcing such approval and the relevant effective date. The Federal Communications Commission will publish a separate document in the Federal Register announcing the effective date of these amendments.

Correction

In the Federal Register of June 14, 2019, in FR Doc. 2019-12127, on page 27734, in the first and second columns, the DATES caption was incorrect. The DATES caption in this document is the correct effective date for the June 14, 2019, rule.

Federal Communications Commission.
Katura Jackson,
Federal Register Liaison Officer.

[FR Doc. 2019-13271 Filed 6-24-19; 8:45 am]

BILLING CODE 6712-01-P